DEPARTMENT OF ENERGY

Reimbursement for Costs of Remedial Action at Active Uranium and Thorium Processing Sites

AGENCY: Office of Environmental Management, Department of Energy.

ACTION: Notice of the acceptance of claims and the availability of funds for reimbursement in fiscal year (FY) 2001.

SUMMARY: This Notice announces the Department of Energy (DOE) acceptance of claims for reimbursement. Approximately $72 million in funds for FY 2001 are available for reimbursement of certain costs of remedial action at eligible active uranium and thorium processing sites pursuant to Title X of the Energy Policy Act of 1992. In December 2000, DOE issued reimbursements to licensees totaling approximately $30 million from the FY 2001 appropriations. These reimbursements eliminated the backlog of licensees' approved unpaid claim balances for claims submitted through FY 1999. The Department will make a second payment by April 30, 2001, from the FY 2001 appropriations on approved FY 2000 claim amounts.

DATES: The closing date for the submission of claims in FY 2001 is May 1, 2001. These claims will be processed for payment by April 30, 2002, based on the availability of funds from congressional appropriations.

ADDRESSES: Claims should be forwarded by certified or registered mail, return receipt requested, to the U.S. Department of Energy, Albuquerque Operations Office, Environmental Restoration Division, P.O. Box 5400, Albuquerque, NM 87185-5400, or by express mail to the U.S. Department of Energy, Albuquerque Operations Office, Environmental Restoration Division, H and Pennsylvania Streets, Albuquerque, NM 87116. All claims should be addressed to the attention of Mr. James B. Coffey. Two copies of the claim should be included with each submission.

FOR FURTHER INFORMATION CONTACT: Messrs. James Coffey (505-845-4026) or Gil Maldonado (505-845-4035), U.S. Department of Energy, Albuquerque Operations Office, Environmental Restoration Division.

SUPPLEMENTARY INFORMATION: DOE published a final rule under 10 CFR Part 765 in the Federal Register on May 23, 1994, (59 FR 26714) to carry out the requirements of Title X of the Energy Policy Act of 1992 (sections 1001-1004 of Pub. L. 102-486, 42 U.S.C. 2296a et seq.) and to establish the procedures for eligible licensees to submit claims for reimbursement. Title X requires DOE to reimburse eligible uranium and thorium licensees for certain costs of decontamination, decommissioning, reclamation, and other remedial action incurred by licensees at active uranium and thorium processing sites to remediate byproduct material generated as an incident of sales to the United States Government. To be reimbursable, costs of remedial action must be for work which is necessary to comply with applicable requirements of the Uranium Mill Tailings Radiation Control Act of 1978 (42 U.S.C. 7901 et seq.) or, where appropriate, with requirements established by a State pursuant to a discontinuance agreement under section 274 of the Atomic Energy Act of 1954 (42 U.S.C. 2021). Claims for reimbursement must be supported by reasonable documentation as determined by DOE in accordance with 10 CFR Part 765. Funds for reimbursement will be provided from the Uranium Enrichment Decontamination and Decommissioning Fund established at the United States Department of Treasury pursuant to section 1801 of the Atomic Energy Act of 1954 (42 U.S.C. 2297g). Payment or obligation of funds shall be subject to the requirements of the Anti-Deficiency Act (31 U.S.C. 1341).

Authority: Section 1001-1004 of Public Law 102-486, 106 Stat. 2776 (42 U.S.C. 2296a et seq.).

Issued in Washington D.C. on this 2nd of January, 2001.
David E. Mathes,
Team Leader, Albuquerque/Nevada Team, Small Sites Closure Office, Office of Site Closure.

[FR Doc. 01-588 Filed 1-8-01; 8:45 am]

BILLING CODE 6450-01-P